NATIONAL SCIENCE FOUNDATION

National Science Board; Sunshine Act Meeting

The National Science Board's Subcommittee on Facilities, pursuant to NSF regulations (45 CFR 614), The National Science Foundation Act (42 U.S.C. 1862n-5), and the Government in the Sunshine Act (5 U.S.C. 552b), hereby gives notice in regard to the scheduling of a meeting for the transaction of National Science Board business and other matters specified, as follows:

DATE AND TIME: Wednesday October 12, 2011 at 2-3 p.m., EDT.

SUBJECT MATTER: Chairman's remarks, approval of minutes of prior meetings, discussion of Mid-Scale Instrumentation Report.

STATUS: Open.

This meeting will be held by teleconference originating at the National Science Board Office, National Science Foundation, 4201Wilson Blvd., Arlington, VA 22230. A room will be available for the public and NSF staff to listen-in on this teleconference meeting. All visitors must contact the Board Office at least one day prior to the meeting to arrange for a visitor's badge and obtain the room number. Call 703-292-7000 to request your badge, which will be ready for pick-up at the visitor's desk on the day of the meeting. All visitors must report to the NSF visitor desk at the 9th and N. Stuart Streets entrance to receive their visitor's badge on the day of the teleconference.

Please refer to the National Science Board Web site (http://www.nsf.gov/nsb/notices/) for information or schedule updates, or contact: Jennie Moehlmann, National Science Foundation, 4201Wilson Blvd., Arlington, VA 22230. Telephone: (703) 292-7000.

Suzanne Plimpton,
Reports Clearance Officer, National Science Foundation.

[FR Doc. 2011-26189 Filed 10-5-11; 4:15 pm]

BILLING CODE 7555-01-P